COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and delete product(s) previously furnished by such agencies.

DATES: Comments must be received on or before: June 09, 2024.

ADDRESSES: Committee for Purchase From People Who Are Blind or Severely Disabled, 355 E Street SW, Suite 325, Washington, DC 20064.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

In accordance with 41 CFR 51-5.3(b), the Committee intends to add this services requirement to the Procurement List as a mandatory purchase only for DEPT OF THE AIR FORCE, FA3300 42 CONS CC at Maxwell AFB (including Gunter Annex and Vigilant Warrior Training Site), Montgomery, AL with the proposed qualified nonprofit agency as the authorized source of supply. Prior to adding the service to the Procurement List, the Committee will consider other pertinent information, including information from Government personnel and relevant comments from interested parties regarding the Committee's intent to geographically limit this services requirement.

The following service(s) are proposed for addition to the Procurement List for production by the nonprofit agencies listed:

Service(s)

Service Type: Custodial and Related Services

Mandatory for: US Air Force, Maxwell AFB (including Gunter Annex and Vigilant Warrior Training Site), Montgomery, AL

Authorized Source of Supply: Global Connections to Employment, Inc., Pensacola, FL

Contracting Activity: DEPT OF THE AIR FORCE, FA3300 42 CONS CC

Deletions

The following product(s) are proposed for deletion from the Procurement List:

Product(s)

NSN(s)—Product Name(s):

1670-01-578-6771—Deployment Bag, Parachute, 35 Feet (T-10R)

Authorized Source of Supply: Georgia Industries for the Blind, Bainbridge, GA

Authorized Source of Supply: Winston-Salem Industries for the Blind, Inc, Winston-Salem, NC

Contracting Activity: DLA AVIATION, RICHMOND, VA

Michael R. Jurkowski,
Deputy, Business Operations.

[FR Doc. 2024-10209 Filed 5-9-24; 8:45 am]

BILLING CODE 6353-01-P